DEPARTMENT OF ENERGY

Federal Energy Regulatory Commission

Combined Notice of Filings #1

Take notice that the Commission received the following electric rate filings:

Docket Numbers: ER11-3643-000.

Applicants: PacifiCorp.

Description: Report Filing: Refund Report (Surcharge) to be effective N/A.

Filed Date: 7/17/15.

Accession Number: 20150717-5126.

Comments Due: 5 p.m. ET 8/7/15.

Docket Numbers: ER14-693-004.

Applicants: Entergy Services, Inc.

Description: Tariff Amendment: EAI-ESI Response 7-16-2015 to be effective 12/31/9998.

Filed Date: 7/17/15.

Accession Number: 20150717-5007.

Comments Due: 5 p.m. ET 8/7/15.

Docket Numbers: ER14-695-004.

Applicants: Entergy Services, Inc.

Description: Tariff Amendment: EAI-ESI Response 7-16-2015 to be effective 12/31/9998.

Filed Date: 7/16/15.

Accession Number: 20150716-5205.

Comments Due: 5 p.m. ET 8/6/15.

Docket Numbers: ER14-696-004.

Applicants: Entergy Services, Inc.

Description: Tariff Amendment: EAI-ESI Response 7-16-2015 to be effective 12/31/9998.

Filed Date: 7/16/15.

Accession Number: 20150716-5214.

Comments Due: 5 p.m. ET 8/6/15.

Docket Numbers: ER14-697-005.

Applicants: Entergy Services, Inc.

Description: Tariff Amendment: EAI-ESI Response 7-16-2015 to be effective 12/31/9998.

Filed Date: 7/17/15.

Accession Number: 20150717-5006.

Comments Due: 5 p.m. ET 8/7/15.

Docket Numbers: ER14-699-004.

Applicants: Entergy Services, Inc.

Description: Tariff Amendment: EAI-ESI Response 7-16-2015 to be effective 12/31/9998.

Filed Date: 7/16/15.

Accession Number: 20150716-5219.

Comments Due: 5 p.m. ET 8/6/15.

Docket Numbers: ER14-699-005.

Applicants: Entergy Services, Inc.

Description: Tariff Amendment: EAI-ESI Response 7-16-2015 to be effective 12/31/9998.

Filed Date: 7/16/15.

Accession Number: 20150716-5225.

Comments Due: 5 p.m. ET 8/6/15.

Docket Numbers: ER14-700-005.

Applicants: Entergy Services, Inc.

Description: Tariff Amendment: EAI-ESI Response 7-16-2015 to be effective 12/31/9998.

Filed Date: 7/16/15.

Accession Number: 20150716-5221.

Comments Due: 5 p.m. ET 8/6/15.

Docket Numbers: ER14-701-004.

Applicants: Entergy Services, Inc.

Description: Tariff Amendment: EAI-ESI Response 7-16-2015 to be effective 12/31/9998.

Filed Date: 7/16/15.

Accession Number: 20150716-5222.

Comments Due: 5 p.m. ET 8/6/15.

Docket Numbers: ER14-703-004.

Applicants: Entergy Services, Inc.

Description: Tariff Amendment: EAI-ESI Response 7-16-2015 to be effective 12/31/9998.

Filed Date: 7/16/15.

Accession Number: 20150716-5223.

Comments Due: 5 p.m. ET 8/6/15.

Docket Numbers: ER14-704-004.

Applicants: Entergy Services, Inc.

Description: Tariff Amendment: EAI-ESI Response 7-16-2015 to be effective 12/31/9998.

Filed Date: 7/16/15.

Accession Number: 20150716-5224.

Comments Due: 5 p.m. ET 8/6/15.

Docket Numbers: ER14-2574-005.

Applicants: California Independent System Operator Corporation.

Description: Compliance filing: 2015-07-16 FRAC MOO Compliance to be effective 11/1/2014.

Filed Date: 7/16/15.

Accession Number: 20150716-5188.

Comments Due: 5 p.m. ET 8/6/15.

Docket Numbers: ER15-517-002.

Applicants: ISO New England Inc., Northeast Utilities Service Company (as, Cross-Sound Cable Company, LLC, New England Power Company, Fitchburg Gas and Electric Light Company.

Description: Compliance filing: Standards for Bus. Prac. & Comm. Protocols for Public Utilities ER15-517- to be effective 5/15/2015.

Filed Date: 7/16/15.

Accession Number: 20150716-5227.

Comments Due: 5 p.m. ET 8/6/15.

Docket Numbers: ER15-524-001.

Applicants: Tucson Electric Power Company.

Description: Compliance filing: Order No. 676-H Compliance Filing to be effective 6/3/2015.

Filed Date: 7/16/15.

Accession Number: 20150716-5206.

Comments Due: 5 p.m. ET 8/6/15.

Docket Numbers: ER15-525-001.

Applicants: UNS Electric, Inc.

Description: Compliance filing: Order 676-H Compliance Filing to be effective 5/15/2015.

Filed Date: 7/16/15.

Accession Number: 20150716-5207.

Comments Due: 5 p.m. ET 8/6/15.

Docket Numbers: ER15-527-002.

Applicants: PJM Interconnection, L.L.C.

Description: Compliance filing: Compliance Filing per 5/18/15 Order in Docket No. ER15-527-001 to be effective 5/15/2015.

Filed Date: 7/17/15.

Accession Number: 20150717-5083.

Comments Due: 5 p.m. ET 8/7/15.

Docket Numbers: ER15-530-001.

Applicants: Midcontinent Independent System Operator, Inc.

Description: Compliance filing: 2015-07-17 Attachment Q Compliance Filing to be effective 5/15/2015.

Filed Date: 7/17/15.

Accession Number: 20150717-5061.

Comments Due: 5 p.m. ET 8/7/15.

Docket Numbers: ER15-540-001.

Applicants: Alabama Power Company.

Description: Compliance filing: OATT Attachment O Order No. 676-H Second Compliance Filing to be effective 5/15/2015.

Filed Date: 7/17/15.

Accession Number: 20150717-5107.

Comments Due: 5 p.m. ET 8/7/15.

Docket Numbers: ER15-543-001.

Applicants: Black Hills Power, Inc.

Description: Compliance filing: Compliance Filing to be effective 5/15/2015.

Filed Date: 7/17/15.

Accession Number: 20150717-5106.

Comments Due: 5 p.m. ET 8/7/15.

Docket Numbers: ER15-545-001.

Applicants: Black Hills/Colorado Electric Utility Co.

Description: Compliance filing: Compliance Filing to be effective 5/15/2015.

Filed Date: 7/17/15.

Accession Number: 20150717-5108.

Comments Due: 5 p.m. ET 8/7/15.

Docket Numbers: ER15-546-001.

Applicants: Cheyenne Light, Fuel and Power Company.

Description: Compliance filing: Compliance Filing to be effective 5/15/2015.

Filed Date: 7/17/15.

Accession Number: 20150717-5109.

Comments Due: 5 p.m. ET 8/7/15.

Docket Numbers: ER15-644-001.

Applicants: Idaho Power Company.

Description: Compliance filing: Order No. 676-H Second Compliance Filing to be effective 7/17/2015.

Filed Date: 7/17/15.

Accession Number: 20150717-5002.

Comments Due: 5 p.m. ET 8/7/15.

Docket Numbers: ER15-1675-001.

Applicants: Puget Sound Energy, Inc.

Description: Tariff Amendment: Blaine NITSA SA No. 785 Compliance Filing to be effective 3/1/2015.

Filed Date: 7/17/15.

Accession Number: 20150717-5136.

Comments Due: 5 p.m. ET 8/7/15.

Docket Numbers: ER15-2127-001.

Applicants: Niagara Mohawk Power Corporation, New York Independent System Operator, Inc.

Description: Tariff Amendment: NMPC errata filing of amended and restated LGIA between National Grid and Sithe to be effective 6/30/2015.

Filed Date: 7/17/15.

Accession Number: 20150717-5065.

Comments Due: 5 p.m. ET 8/7/15.

Docket Numbers: ER15-2218-000.

Applicants: Public Service Company of New Hampshire.

Description: Tariff Cancellation: Cancellation of PSNH FERC Rate Schedule No.SA-1 to be effective 7/1/2015.

Filed Date: 7/16/15.

Accession Number: 20150716-5192.

Comments Due: 5 p.m. ET 8/6/15.

Docket Numbers: ER15-2219-000.

Applicants: EONY Generation Limited.

Description: Compliance filing: Baseline refile to be effective 7/17/2015.

Filed Date: 7/16/15.

Accession Number: 20150716-5208.

Comments Due: 5 p.m. ET 8/6/15.

Docket Numbers: ER15-2220-000.

Applicants: Southern California Edison Company.

Description: Tariff Cancellation: Notices of Cancellation GIA and Distrib Serv Agmt SunEdison IM Fontana Project to be effective 4/30/2015.

Filed Date: 7/17/15.

Accession Number: 20150717-5003.

Comments Due: 5 p.m. ET 8/7/15.

Docket Numbers: ER15-2221-000.

Applicants: Southern California Edison Company.

Description: Tariff Cancellation: Notices of Cancellation SGIA and Distrib Service Agmt SunEdison 825 E. Project to be effective 7/1/2015.

Filed Date: 7/17/15.

Accession Number: 20150717-5029.

Comments Due: 5 p.m. ET 8/7/15.

Docket Numbers: ER15-2222-000.

Applicants: Midcontinent Independent System Operator, Inc., ITC Midwest LLC.

Description: Section 205(d) Rate Filing: 2015-07-17_SA 2820 ITC Midwest-SMEC D-TIA to be effective 7/31/2015.

Filed Date: 7/17/15.

Accession Number: 20150717-5110.

Comments Due: 5 p.m. ET 8/7/15.

Docket Numbers: ER15-2223-000.

Applicants: Midcontinent Independent System Operator, Inc., Michigan Electric Transmission Company, LLC, Wolverine Power Supply Cooperative, Inc.

Description: Section 205(d) Rate Filing: 2015-07-17_SA 2818 METC-Wolverine Power E&P (J392) to be effective 7/18/2015.

Filed Date: 7/17/15.

Accession Number: 20150717-5131.

Comments Due: 5 p.m. ET 8/7/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2015.
Kimberly D. Bose,
Secretary.

[FR Doc. 2015-18106 Filed 7-23-15; 8:45 am]

BILLING CODE 6717-01-P